DEPARTMENT OF THE INTERIOR

National Park Service

[N6885; NPS-WASO-NAGPRA-NPS0042085; PPWOCRADN0-PCU00RP14.R50000]

Notice of Inventory Completion: University of Maine, Anthropology Department, Orono, ME

AGENCY: National Park Service, Interior.

ACTION: Notice.

SUMMARY: In accordance with the Native American Graves Protection and Repatriation Act (NAGPRA), the University of Maine has completed an inventory of human remains and associated funerary objects and has determined that there is a cultural affiliation between the human remains and associated funerary objects and Indian Tribes or Native Hawaiian organizations in this notice. The human remains and associated funerary objects were removed from several locations within the state of Maine.

DATES: Repatriation of the human remains and associated funerary objects in this notice may occur on or after April 1, 2026.

ADDRESSES: Send written requests for repatriation of human remains and associated funerary objects in this notice to Dr. Bonnie Newsom, Anthropology Department, University of Maine, 5773 South Stevens Hall, Orono, ME 04469, email bonnie.newsom@maine.edu.

SUPPLEMENTARY INFORMATION: This notice is published as part of the National Park Service's administrative responsibilities under NAGPRA. The determinations in this notice are the sole responsibility of the University of Maine, and additional information on the determinations in this notice, including the results of consultation, can be found in its inventory or related records. The National Park Service is not responsible for the determinations in this notice.

Abstract of Information Available

Human remains representing one individual were removed from Site 17.125, a shell midden site located on Halls Island in Muscongus Bay in Knox County, Maine. The remains were removed in 1983 during excavations conducted by Dr. David Sanger and were returned to the University of Maine. The remains have been identified as one human tarsal phalanx; age and sex were not determined. No associated funerary objects are present. Dentate-decorated pottery found at the site suggests the site dates to the Middle Woodland Period. Based on the context of the human remains in a shell midden site with Native American artifacts, it is reasonable to assume the human remains are Native American.

Human remains representing at least one individual were removed from the Grindle site (ME 42.10) located in Blue Hill in Hancock County, Maine. The remains were removed in 1968 during excavations conducted by Dr. Dean Snow and were returned to the University of Maine. The remains have been identified as three human left metatarsal bones, age and sex were not determined. No associated funerary objects are present. Charcoal found near the remains was radiocarbon dated to 820±80 BP (A.D. 1130±80), based on this Middle Woodland Period date and the context of the remains in a shell midden site with Native American artifacts it is reasonable to assume the human remains are Native American.

Human remains representing at least one individual were removed from the Holmes Point East site (ME 62.06) in Machiasport, Washington County, Maine. The remains were removed in 1973 by Robert MacKay from the University of Maine during field school excavations and returned to the University of Maine. The sex of the individual is indeterminate; their age is between seven and 15 years old. The remains include 11 bone fragments identified as the following elements: scapula, femur, manubrium, atlas, axis, cervical vertebra, and thoracic vertebra. No associated funerary objects are present. No radiocarbon date is associated with the remains; however, based on the context of the remains in a Woodland Period shell midden site with Native American artifacts it is reasonable to assume the human remains are Native American.

Between 1968 and 1969 Dr. Dean R. Snow from the University of Maine removed the contents of 18 grave lots from the Hathaway Cemetery site (ME 91.01) located in Passadumkeag, Penobscot County, Maine. Dr. Snow noted that most, if not all, of the graves were cremation burials. Radiocarbon dates of the burials range from 200±80 BP (A.D. 1750) to 5156±185 BP (3200 BC). The current University of Maine collection contains a minimum of 11 individuals. None of the human bone remains were identified to element, and age and sex were not determined. The collection includes over 107 small calcined human bone fragments, often mixed with burial fill samples containing ocher and charcoal. The 240 associated funerary objects include a split cobble, ground slate points, gouges, celt fragments, bifaces, scrapers, a graver, a drill fragment, hammerstones, a plummet, abraders, a stone amulet, pebbles, cobbles, lithic flakes, a flaked cobble, pieces of phyllite, a chert nodule, a strike-a-lite, an iron concretion, a clay lump, ocher samples some with human bone, charcoal samples, burial fill samples some with human bone, and bark and wood samples. Based on the association of red ocher, the radiocarbon dates, and the above-listed funerary objects, it is reasonable to assume these burials are Native American.

The Bradley Cemetery site (ME 74.01) is a large Late Archaic Period cemetery located in Bradley, Penobscot County, Maine. A radiocarbon date on birch bark recovered from a limonite concretion adhered to a celt excavated in 1969 provided a date of 4,590±120 years BP (2640 BC). The University of Maine holds the remains from 12 grave lots removed from the cemetery by Robert MacKay in 1969 and 1971 while he was an archaeologist at the University of Maine. The University also owns a collection of artifacts removed from the cemetery by James Hosmer in the 1960s, an employee of the Maine Department of Transportation (DOT), collected when the DOT was removing gravel from the site. In 1984 Dr. David Sanger of the University of Maine returned to Bradley cemetery to conduct archaeological excavations as part of a proposed hydroelectric dam relicensing project. He determined that the cemetery had been destroyed. No human remains are present in the collection from the Bradley Cemetery. The 113 associated funerary objects from the 12 graves include; ground slate points, gouges, celts, a celt preform, rounded pebbles, hammerstones, plummets, cobbles, modified cobbles, a cobble with a hole, stemmed bifaces, slate bayonet fragments, a lithic flake, a lithic chunk, ground slate fragments, whetstones, stone effigies, a fire-cracked-rock, pyrite samples, and ocher samples. Based on the description of the graves at the cemetery, the radiocarbon date, the presence of red ocher, and the associated funerary objects it is reasonable to assume these funerary objects were removed from Native American burials.

The Young Site (ME 73.10) is located on the north bank of Pushaw Stream in Alton, Penobscot County, Maine. In 1975 and 1977, Dr. David Sanger from the University of Maine conducted excavations at the site and removed a cremation burial. Eight radiocarbon dates on charcoal from the cremation burial produced dates ranging from 3105±50 BP to 3715±60 BP. No human remains were found within the cremation burial. However, 57 funerary objects were removed from the burial and housed at the University of Maine. The 57 associated funerary objects include 51 biface fragments, two hammerstones, two retouched lithic flakes, and two slate bayonet fragments that refit. Based on the presence of red ocher within the cremation burial, the radiocarbon dates, and the associated funerary objects, it is reasonable to assume this is a Native American burial.

The Erkkila Cemetery site (ME-27.03) is located in Warren, Knox County, Maine. In 1995 Dr. Brian Robinson removed a burial from the cemetery that was exposed during gravel quarrying activities. Robinson brought the human remains and associated funerary objects to the University of Maine in 2004. The burial contained a minimum of one individual represented by a mandible, a maxilla (articulated when found), two frontal skull fragments, one posterior skull fragment, one femur fragment, one femur or humerus fragment and numerous tiny unidentified bone fragments included in burial fill samples. The sex and age of the individual are indeterminate due to the fragmentary state of the bones and the fact that Robinson coated them with B-72, a thermoplastic resin, to preserve them. A radiocarbon date on wood charcoal from the burial produced a date of 1760±70 years BP. The collection also contains ocher and charcoal samples collected from burials at the cemetery by Richard Orcutt. The 57 associated funerary objects include a copper bead with cordage, 12 rocks, a fire-cracked-rock, charred wood samples, ocher samples, charcoal samples, charcoal and sediment samples, some with human bone, feature and burial fill samples, some with human bone, one burial fill sample with copper, and seven casts (two casts made of skull fragments, two casts of the upper mandible, two casts of the lower mandible, and a cast of a stone effigy found by a collector. The stone effigy that was cast is not part of the collection housed at the University of Maine, Orono). Based on the description of the grave, the radiocarbon date, the presence of red ocher and the associated funerary objects it is reasonable to assume this burial is Native American.

Dr. David Sanger from the University of Maine conducted excavations at the Eddington Bend Site (ME 74.08) in 1986 and 1989 as part of a proposed hydroelectric dam relicensing project. The Eddington Bend Site is located in Eddington, Penobscot County, Maine. These excavations removed part of a burial feature with the remains of a minimum of nine individuals including three subadults aged 6-15, one male aged 19-21, four adult males aged 35-45, 40-50, and 25-40, and one adult female of indeterminate age. Most of these remains were repatriated in 1998 (Federal Register 63 FR 4285, January 28, 1998). Recent inventorying efforts at the University of Maine identified additional human remains from this burial feature including 265 small bone fragments: seven mandibular fragments, four fibular fragments, 43 skull fragments, seven rib fragments, four vertebrae fragments, 10 sacral fragments, 69 long bone fragments, 23 teeth fragments, and 98 unidentified fragments. The 34 associated funerary objects include bifaces, both complete and fragmentary, an ocher-stained cobble, ocher samples, and eight casts of human bones removed from a grave at the site. Dr. Brian Robinson had a rubber mold of a Susquehanna Tradition stone striker made for creating casts of the artifact. He also made eight casts of human bones removed from a grave at the site. The bone used to make the casts and the artifact used to make the rubber mold are not in collections housed at the University of Maine, Orono. Remains from this burial feature were previously determined to be Native American based on dental morphology.

Dr. Brian Robinson removed human remains representing at least one individual from the Nevin site (ME 42.01) located in Blue Hill, Hancock County, Maine. The individual is represented by one unidentified human bone fragment. The 25 associated funerary objects removed from the site include a ridged hammerstone fragment, a lithic core fragment, a celt fragment, abraders, a ground stone tool fragment, a pecked cobble, a biface tip, utilized lithic flakes, a lithic flake, one bird bone fragment, two plaster casts of bone artifacts from burials, five wax flakes scraped from funerary objects after casting the objects, and six sealed glass vials of bone apatite from human remains removed from the site but not housed at the University of Maine. A total of 12 radiocarbon dates were obtained and reported by Dr. Douglas Byers in 1979 on habitation debris from site deposits, including bone, oyster shell, and a swordfish rostrum. This material was dated by the Smithsonian Institute, and the dates ranged from 2,660±85 years BP to 4,245±115 years BP.

Human remains representing, at least, one individual were removed from unknown sites in Maine. These remains were donated to the University of Maine over its history and include two small fragments of unidentified calcined human bone and six samples of red ocher that likely contain human bone, but the samples were not investigated to try to confirm the presence of human remains. The six associated funerary objects are six samples of red ocher.

Cultural Affiliation

Based on the information available and the results of consultation, cultural affiliation is reasonably identified by the geographical location or acquisition history of the human remains and associated funerary objects described in this notice to be the Houlton Band of Maliseet Indians; Mi'kmaq Nation (previously listed as Aroostook Band of Micmacs); Passamaquoddy Tribe; and Penobscot Nation.

Determinations

The University of Maine has determined that:

• The human remains described in this notice represent the physical remains of a minimum of 26 individuals of Native American ancestry.

• The 532 objects described in this notice are reasonably believed to have been placed intentionally with or near individual human remains at the time of death or later as part of the death rite or ceremony.

• There is a connection between the human remains and associated funerary objects described in this notice and the Houlton Band of Maliseet Indians; Mi'kmaq Nation (previously listed as Aroostook Band of Micmacs); Passamaquoddy Tribe; and the Penobscot Nation.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after April 1, 2026. If competing requests for repatriation are received, the University of Maine must determine the most appropriate requestor prior to repatriation. Requests for joint repatriation of the human remains and associated funerary objects are considered a single request and not competing requests. The University of Maine is responsible for sending a copy of this notice to the Indian Tribes and Native Hawaiian organizations identified in this notice.

Authority: Native American Graves Protection and Repatriation Act, 25 U.S.C. 3003, and the implementing regulations, 43 CFR 10.10.

Dated: February 20, 2026.
Melanie O'Brien,
Manager, National NAGPRA Program.

[FR Doc. 2026-04035 Filed 2-27-26; 8:45 am]

BILLING CODE 4312-52-P